DEPARTMENT OF HEALTH AND HUMAN SERVICES

Health Resources and Services Administration

Agency Information Collection Activities: Submission to OMB for Review and Approval; Public Comment Request; Information Collection Request Title: Evaluation of the Maternal and Child Health Bureau Pediatric Mental Health Care Access Program and the Maternal and Child Health Bureau Screening and Treatment for Maternal Depression and Related Behavioral Disorders Program, OMB No. 0906-xxxx-NEW

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period. OMB may act on HRSA's ICR only after the 30 day comment period for this Notice has closed.

DATES: Comments on this ICR should be received no later than February 18, 2020.

ADDRESSES: Submit your comments, including the ICR Title, to the desk officer for HRSA, either by email to OIRA_submission@omb.eop.gov or by fax to (202) 395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION:

Information Collection Request Title: Evaluation of Maternal and Child Health Bureau Pediatric Mental Health Care Access Program and the Maternal and Child Health Bureau Screening and Treatment for Maternal Depression and Related Behavioral Disorders Program OMB No. 0906-xxxx—[NEW].

Abstract: HRSA's Maternal and Child Health Bureau Pediatric Mental Health Care Access (PMHCA) and Maternal Depression and Related Behavioral Disorders (MDRBD) programs aim to increase identification of behavioral health conditions by screening specified populations (e.g., children, adolescents, young adults, and pregnant and postpartum women, especially those living in rural, isolated, and underserved areas); providing clinical behavioral health consultation; care coordination support (e.g., communication/collaboration, accessing resources, referral services) and training to health care providers; and increasing access to clinical interventions including by telehealth. Provider education and training will support the knowledge and skills acquisition needed to accomplish this goal. PMHCA program is authorized by the Public Health Service Act, § 330M (42 U.S.C. 254c-19), as amended. The MDRBD program is authorized by the Public Health Service Act, § 317L-1 (42 U.S.C. 247b-13a), as amended. In order to evaluate progress made toward the programs' goals, this data collection will use four instruments: Health Care Provider (HCP) Survey, Practice-Level Survey, Program Implementation Survey, and Program Implementation Semi-Structured Interview.

A 60-day notice was published in the Federal Register on October 17, 2019, Vol. 84, No. 201, pp. 55579-80. There were no public comments.

Need and Proposed Use of the Information: This information is needed to evaluate the PMHCA and MDRBD Programs by providing HRSA with the necessary information to guide future policy decisions regarding increasing health care providers capacity to address patient's behavioral health and access to behavioral health services. Specifically, data collected for the evaluation will be used to study the efforts of awardee programs to achieve key awardee outcomes (e.g., increase in access to behavioral health services; providers trained; available community-based resources, including counselors or family service providers) and to measure whether and to what extent awardee programs are associated with changes in these key awardee outcomes. The evaluation will also examine changes over time, within a state and/or across the PMCHA and MDRBD programs, with regard to (1) enrolled providers/practices related to screening, referral, and care coordination for behavioral health conditions; (2) provision of behavioral health services for mental health conditions in primary care settings by enrolled health care providers; (3) use of consultative services; and (4) facilitation of access to behavioral health services for mental health conditions.

Likely Respondents: Both HCP and Practice-Level Survey responses will be collected from health care providers and practices that are participating in the PMCHA and MDRBD programs. Likely respondents include:

• HCP Surveys: Physicians, nurse practitioners, physician assistants, nurse midwives (for MDBRD), other health care professionals (e.g., behavioral health providers, case coordinators, nurses, social workers)

• Practice-Level Surveys: Practice managers (e.g., office managers, office leadership, nurse champions)

• Program Implementation Survey and Semi-Structured Interview: PMHCA and MDRBD cooperative agreement-funded Project Directors/Principal Investigators

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Health Care Provider Survey | 13,035 | 3 | 39,105 | 0.17 | 6,648
Practice-Level Survey | 4,165 | 3 | 12,495 | 0.25 | 3,124
Program Implementation Survey | 28 | 3 | 84 | 0.50 | 42
Program Implementation Semi-Structured Interview | 28 | 1 | 28 | 1.00 | 28
Total | 17,256 |  | 51,712 |  | 9,842

Maria G. Button,
Director, Executive Secretariat.

[FR Doc. 2020-00736 Filed 1-16-20; 8:45 am]

BILLING CODE 4165-15-P